NATIONAL SCIENCE FOUNDATION (NSF)

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Wednesday, August 5, 2009, at 8:30 a.m.; and Thursday, August 6, 2009 at 8 a.m.

Place: National Science Foundation, 4201 Wilson Blvd., Rooms 1235 and 1295, Arlington, VA 22230. All visitors must report to the NSF visitor desk at the 9th and N. Stuart Streets entrance to receive a visitor's badge. Public visitors must arrange for a visitor's badge in advance. Call 703-292-7000 to request your badge, which will be ready for pick-up at the visitor's desk on the day of the meeting.

Status: Some portions open, some portions closed.

Open Sessions:

August 5, 2009

8:30 a.m.-8:35 a.m.

8:35 a.m.-10:45 a.m.

8:45 a.m.-9:45 a.m.

9:45 a.m.-10:45 a.m.

11 a.m.-11:15 a.m.

11:15 a.m.-11:30 a.m.

August 6, 2009

8 a.m.-9 a.m.

9:15 a.m.-10:15 a.m.

1 p.m.-3 p.m.

Closed Sessions:

August 5, 2009

11 a.m.-12 p.m.

11:30 a.m.-12 p.m.

1 p.m.-3 p.m.

3:15 p.m.-5:15 p.m.

August 6, 2009

9 a.m.-9:15 a.m.

10:15 a.m.-10:45 a.m.

10:45 a.m.-11 a.m.

11 a.m.-11:45 a.m.

Agency Contact: Dr. Robert E. Webber, rwebber@nsf.gov, (703) 292-7000, http://www.nsf.gov/nsb/.

Matters to be Discussed:

Wednesday, August 5, 2009

Open Session: 8:30 a.m.-8:35 a.m., Room 1235

• Chairman's Remarks.

Committee on Programs and Plans (CPP)

Open Session: 8:35 a.m.-10:45 a.m., Room 1235

• Approval of May 4, 2009 and May 27, 2009 CPP Minutes;

• Committee Chairman's Remarks;

• Report from Task Force on Sustainable Energy.

• CPP Subcommittee on Polar Issues (SOPI)

○ SOPI Chairman's Remarks;

○ Director's Report—Office of Polar Programs;

○ Developments in Regional Climate Modeling;

○ Restrictions on Fuels for Southern Ocean Shipping.

• NSB Information Item: National Ecological Observatory Network (NEON);

• NSB Information Item: NSF Data Policy Discussion;

• NSB Information Item: Management and Operation of the Gemini Observatory.

Committee on Programs and Plans (CPP)

Closed Session: 11:00 a.m.-12 p.m., Room 1235

• Committee Chairman's Remarks;

• NSB Information Item: Operations for future coherent light source R&D.

Committee on Programs and Plans (CPP)

Closed Session: 1 p.m.-3 p.m., Room 1235

• NSB Information Item: Status of Track-2 Award.

• NSB Action Item: TeraGrid Extension: Bridging to XD.

• NSB Action Item: George E. Brown, Jr., Network for Earthquake Engineering Simulation (NEES) Operations.

Committee on Programs and Plans (CPP)

Closed Session: 3:15 p.m.-5:15 p.m., Room 1235

• NSB Action Item: Preliminary Design for the Deep Underground Science and Engineering Laboratory (DUSEL)

• NSB Action Item: Approval of Construction Funding for the Advanced Technology Solar Telescope (ATST)

Committee on Education and Human Resources (CEH)

Open Session: 8:45 a.m.-9:45 a.m., Room 1295

• Approval of May 2009 Minutes;

• Update on the Next Generation of STEM Innovators Expert Panel Discussion;

• STEM Education Grand Challenges;

• Other Committee Business.

Committee on Science and Engineering Indicators (SEI)

Open Session: 9:45 a.m.-10:45 a.m., Room 1295

• Approval of May Minutes;

• Committee Chairman's Remarks;

• Discussion of Orange Book;

• Discussion of Indicators Digest;

• Discussion of Companion Piece.

Executive Committee

Open Session: 11 a.m.-11:15 a.m., Room 1295

• Approval of Minutes for the May 2009 Meeting;

• Executive Committee Chairman's Remarks;

• Approval of Closed Session Agenda Items memorandum for September 23-24, 2009 meeting;

• Updates or New Business from Committee Members.

Task Force on the NSB 60th Anniversary

Open Session: 11:15 a.m.-11:30 a.m., Room 1295

• Approval of Minutes for the May 13, 2009 Meeting;

• Task Force Chairman's Remarks;

• Further Discussion and Comments Relating to NSB 60th Anniversary.

ad hoc Committee on Nominations for NSB Class of 2010-2016

Closed Session: 11:30 a.m.-12 p.m., Room 1295

• Approval of Minutes for the May 13, 2009 Meeting;

• Approval of Minutes for the July 28, 2009 Teleconference;

• Nominations Committee Acting Chairman's Remarks;

• Discussion of Nomination Packets.

Thursday, August 6, 2009

Committee on Audit and Oversight (A&O)

Open Session: 8 a.m.-9:00 a.m., Room 1235

• Approval of Minutes of the May 14, 2009 Meeting.

• Committee Chairman's Opening Remarks.

• Human Resource Management at the National Science Foundation;

• Chief Financial Officer's Update including ARRA status update.

Committee on Audit and Oversight (A&O)

Closed Session: 9:00 a.m.-9:15 a.m., Room 1235

• FY 2011 Budget for OIG.

Committee on Strategy and Budget (CSB)

Open Session: 9:15 a.m.-10:15 a.m., Room 1235

• Approval of Minutes:

○ May 13-14, 2009 Provisional Minutes;

○ June 26, 2009 Teleconference Provisional Minutes;

○ July 24, 2009 Teleconference Provisional Minutes.

• Committee Chairman's Remarks.

• Subcommittee on Facilities (SCF) Update.

• NSF Budget Discussion.

○ FY 2010 Budget update;

○ FY 2009 Budget and ARRA update.

• Other Committee Business.

Committee on Strategy and Budget (CSB)

Closed Session: 10:15 a.m.-10:45 a.m., Room 1235

• Discussion of the FY 2011 OMB Budget Submission.

Plenary Executive Closed

Closed Session: 10:45 a.m.-11:00 a.m., Room 1235

• Approval of Plenary Executive Closed Minutes, May 2009;

• Approval of Nominations Committee Recommendations.

Plenary Closed

Closed Session: 11:00 a.m.-11:45 a.m., Room 1235

• Approval of Plenary Closed Minutes, May 2009;

• Awards and Agreements;

• Closed Committee Reports.

Plenary Open

Open Session: 1 p.m.-3 p.m., Room 1235

• Director's Award for Collaborative Integration;

• Approval of Plenary Open Minutes, May 2009;

• Chairman's Report;

• Director's Report;

• Open Committee Reports.

Ann Ferrante,
Technical Writer/Editor.

[FR Doc. E9-17999 Filed 7-24-09; 4:15 pm]

BILLING CODE 7555-01-P